DEPARTMENT OF ENERGY

Federal Energy Regulatory Commission

[Docket No. CP06-421-000]

Transcontinental Gas Pipe Line Corporation; Notice of Public Meeting for the Proposed Potomac Expansion Project

February 22, 2007.

The staff of the Federal Energy Regulatory Commission (FERC or Commission) is holding a public meeting for Transcontinental Gas Pipe Line Corporation's (Transco's) proposed Potomac Expansion Project. The project would consist of the construction of about 20 miles of new 42-inch-diameter pipeline in three loops located in Campbell, Pittsylvania, and Fairfax Counties, Virginia; and various aboveground facilities, including a proposed pig launcher/receiver facility at milepost 1,586.17 in Fairfax County, Virginia.

The meeting will be on Friday, March 2, 2007, at 7 p.m. (EST) in the Virginia Run Community Center, 15355 Wetherburn Court, Centreville, VA 20120.

This event is posted on the Commission's calendar located at http://www.ferc.gov/EventCalendar/EventsList.aspx along with other related information. For additional information, please contact the Commission's Office of External Affairs at 1-866-208-FERC.

Magalie R. Salas,
Secretary.

[FR Doc. E7-3490 Filed 2-27-07; 8:45 am]

BILLING CODE 6717-01-P